DEPARTMENT OF HEALTH AND HUMAN SERVICES

Centers for Disease Control and Prevention

Disease, Disability, and Injury Prevention and Control Special Emphasis Panels (SEP): HIV III—OPT-Out Testing in Emergency Department Settings, Program Announcement (PA) PS06-003

In accordance with Section 10(a)(2) of the Federal Advisory Committee Act (Pub. L. 92-463), the Centers for Disease Control and Prevention (CDC) announces the following meeting:

Name: Disease, Disability, and Injury Prevention and Control Special Emphasis Panel (SEP): HIV III—OPT-Out Testing in Emergency Department Settings, PA PS06-003.

Time and Date: 12 p.m.-1 p.m., July 12, 2006 (Closed).

Place: Teleconference.

Status: The meeting will be closed to the public in accordance with provisions set forth in Section 552b(c) (4) and (6), Title 5 U.S.C., and the Determination of the Director, Management Analysis and Services Office, CDC, pursuant to Public Law 92-463.

Matters To Be Discussed: The meeting will include the review, discussion, and evaluation of applications received in response to “HIV III—OPT-Out Testing in Emergency Department Settings,” PA PS06-003. Due to programmatic matters, this Federal Register Notice is being published on less than 15 calendar days notice to the public (41 CFR 102-3.150(b)).

Contact Person for More Information: Jim Newhall, Ph.D., Scientific Review Administrator, Office of Public Health Research, CDC, 1600 Clifton Road NE, Mailstop D72, Atlanta, GA 30333, Telephone 404.639.4641.

The Director, Management Analysis and Services Office, has been delegated the authority to sign Federal Register notices pertaining to announcements of meetings and other committee management activities, for both CDC and the Agency for Toxic Substances and Disease Registry.

Dated: June 29, 2006.
Kathy Skipper,
Acting Director, Management Analysis and Services Office , Centers for Disease Control and Prevention.

[FR Doc. 06-6035 Filed 7-5-06; 8:45 am]

BILLING CODE 4163-18-P